INTERNATIONAL TRADE COMMISSION

[Investigation No. 332-534]

Renewable Energy and Related Services: Recent Developments

AGENCY: United States International Trade Commission.

ACTION: Extension of date for transmitting report.

SUMMARY: Following the receipt of a letter on April 15, 2013, from the United States Trade Representative (USTR), the Commission has extended to August 30, 2013, the date for transmitting its report to USTR in investigation No. 332-534, Renewable Energy and Related Services: Recent Developments.

DATES:

April 15, 2013: Receipt of the letter from USTR.

August 30, 2013: New date for transmitting the Commission's report to USTR.

Backround

The Commission published notice of institution of the investigation in the Federal Register on August 31, 2012 (77 FR 53233). In its original notice of investigation, the Commission indicated that it would transmit its report to USTR on June 28, 2013. The notice is also available on the Commission Web site at http://www.usitc.gov. All other information about the investigation, including a description of the subject matter to be addressed, contact information, and Commission addresses, remains the same as in the original notice. The public record for this investigation may be viewed on the Commission's electronic docket (EDIS) at http://www.usitc.gov/secretary/edis.htm.

Issued: April 30, 2013.
By order of the Commission.
Lisa R. Barton,
Acting Secretary to the Commission.

[FR Doc. 2013-10535 Filed 5-3-13; 8:45 am]

BILLING CODE 7020-02-P